DEPARTMENT OF THE TREASURY

Office of Foreign Assets Control

31 CFR Part 548

Publication of Belarus Sanctions Regulations Web General Licenses 8 and 9

AGENCY: Office of Foreign Assets Control, Treasury.

ACTION: Publication of web general licenses.

SUMMARY: The Department of the Treasury's Office of Foreign Assets Control (OFAC) is publishing two general licenses (GLs) issued pursuant to the Belarus Sanctions Regulations: GLs 8 and 9, each of which was previously made available on OFAC's website.

DATES: GLs 8 and 9 were issued on August 9, 2023. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On August 9, 2023, OFAC issued GLs 8 and 9 to authorize certain transactions otherwise prohibited by the Belarus Sanctions Regulations, 31 CFR part 548. GL 8 has an expiration date of October 9, 2023. GL 9 has an expiration date of September 8, 2023. Each GL was made available on OFAC's website (https://ofac.treasury.gov) at the time of publication. The text of these GLs is provided below.

OFFICE OF FOREIGN ASSETS CONTROL

Belarus Sanctions Regulations

31 CFR Part 548

GENERAL LICENSE NO. 8

Authorizing the Wind Down of Transactions Involving Joint Stock Company Byelorussian Steel Works Management Company of Holding Byelorussian Metallurgical Company

(a) Except as provided in paragraph (b) of this general license, all transactions prohibited by the Belarus Sanctions Regulations, 31 CFR part 548 (BSR), that are ordinarily incident and necessary to the wind down of any transaction involving Joint Stock Company Byelorussian Steel Works Management Company of Holding Byelorussian Metallurgical Company (BSW) or any entity in which BSW owns, directly or indirectly, a 50 percent or greater interest, including Bel-Kap-Steel LLC (collectively, “BSW Entities”), are authorized through 12:01 a.m. eastern daylight time, October 9, 2023, provided that any payment to a BSW Entity must be made into a blocked account in accordance with the BSR.

Note to paragraph (a). The authorization in paragraph (a) of this general license includes authorization for U.S. persons to process and pay salaries, severance, and expenses, and to pay vendors and landlords, to the extent such transactions are ordinarily incident and necessary to the wind down of Bel-Kap-Steel LLC and do not involve a debit to a blocked account.

(b) This general license does not authorize any transactions otherwise prohibited by the BSR, including transactions involving any person blocked pursuant to the BSR other than the BSW Entities, unless separately authorized.

Andrea M. Gacki,

Director, Office of Foreign Assets Control.

Dated: August 9, 2023.

OFFICE OF FOREIGN ASSETS CONTROL

Belarus Sanctions Regulations

31 CFR Part 548

GENERAL LICENSE NO. 9

Authorizing Transactions Related to Civil Aviation Safety or the Wind Down of Transactions Involving Open Joint Stock Company Belavia Belarusian Airlines

(a) Except as provided in paragraph (c), all transactions prohibited by the Belarus Sanctions Regulations, 31 CFR part 548 (BSR), that are ordinarily incident and necessary to the provision, exportation, or reexportation of goods, technology, or services to ensure the safety of civil aviation involving Open Joint Stock Company Belavia Belarusian Airlines, or any entity in which Open Joint Stock Company Belavia Belarusian Airlines owns, directly or indirectly, a 50 percent or greater interest (collectively, the “Belavia Entities”), are authorized through 12:01 a.m. eastern daylight time, September 8, 2023, provided that the goods, technology, or services that are provided, exported, or reexported are for use on aircraft operated solely for civil aviation purposes.

(b) Except as provided in paragraph (c), all transactions prohibited by the BSR that are ordinarily incident and necessary to the wind down of any transaction involving the Belavia Entities, are authorized through 12:01 a.m. eastern daylight time, September 8, 2023, provided that any payment to a Belavia Entity must be made into a blocked account in accordance with the BSR.

(c) This general license does not authorize any transactions otherwise prohibited by the BSR, including transactions involving any person blocked pursuant to the BSR other than the Belavia Entities, unless separately authorized.

Note to General License 9. Nothing in this general license relieves any person from compliance with any other Federal laws or requirements of other Federal agencies, including export, reexport, and transfer (in-country) licensing requirements maintained by the Department of Commerce's Bureau of Industry and Security under the Export Administration Regulations, 15 CFR parts 730-774.

Andrea M. Gacki,

Director, Office of Foreign Assets Control.

Dated: August 9, 2023.
Andrea M. Gacki,
Director, Office of Foreign Assets Control.

[FR Doc. 2023-19887 Filed 9-13-23; 8:45 am]

BILLING CODE 4810-AL-P